FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than August 14, 2012.

A. Federal Reserve Bank of New York (Ivan Hurwitz, Vice President) 33 Liberty Street, New York, New York 10045-0001:

1. Muhammad Habib, Kusnacht, Switzerland; Hamza Habib, and Khadijah Jumani, both of Dubai, United Arab Emirates; and Fazilat Jumani, London, England; to retain control of Maham Beteiligungsgessellschaft AG, Zurich, Switzerland, and thereby indirectly retain control of Habib American Bank, New York, New York.

Board of Governors of the Federal Reserve System, July 25, 2012.
Robert deV. Frierson,
Deputy Secretary of the Board.

[FR Doc. 2012-18510 Filed 7-27-12; 8:45 am]

BILLING CODE 6210-01-P